NATIONAL SCIENCE FOUNDATION

Notice of Permit Applications Received Under the Antarctic Conservation Act of 1978 (Pub. L. 95-541)

AGENCY: National Science Foundation.

ACTION: Notice of Permit Applications Received under the Antarctic Conservation Act of 1978, Public Law 95-541.

SUMMARY: The National Science Foundation (NSF) is required to publish a notice of permit applications received to conduct activities regulated under the Antarctic Conservation Act of 1978. NSF has published regulations under the Antarctic Conservation Act at Title 45 Part 670 of the Code of Federal Regulations. This is the required notice of permit applications received.

DATES: Interested parties are invited to submit written data, comments, or views with respect to this permit application by April 26, 2013. This application may be inspected by interested parties at the Permit Office, address below.

ADDRESSES: Comments should be addressed to Permit Office, Room 755, Division of Polar Programs, National Science Foundation, 4201 Wilson Boulevard, Arlington, Virginia 22230.

FOR FURTHER INFORMATION CONTACT: Polly A. Penhale at the above address or (703) 292-7420.

SUPPLEMENTARY INFORMATION: The National Science Foundation, as directed by the Antarctic Conservation Act of 1978 (Pub. L. 95-541), as amended by the Antarctic Science, Tourism and Conservation Act of 1996, has developed regulations for the establishment of a permit system for various activities in Antarctica and designation of certain animals and certain geographic areas requiring special protection. The regulations establish such a permit system to designate Antarctic Specially Protected Areas.

The applications received are as follows:

Permit Application: 2013-029

1. Applicant Chi-Hing Christina Cheng, Department of Animal Biology, 515 Morrill Hall, University of Illinois, 505 S. Goodwin Avenue, Urbana, IL 61801.

Activity for Which Permit is Requested

Enter Antarctic Specially Protected Areas. The applicant intends to enter ASPA 152-Western Bransfield Strait, and ASPA 153-Eastern Dallmann Bay to capture Antarctic fish by trawling and trapping. The project will study the antifreeze glycoprotein that is circulated in their circulatory space. For two of the species, D. mawsoni and C. aceratus, they will collect juveniles that will be sampled for obtaining sequences of genes expressed in young developmental stages. These will be added to sequences of adult D. mawsoni collected from McMurdo Sound, and adult C. aceratus that will be collected at the same time as the juveniles. The purpose is to have different ages represented in a comprehensive transcriptome of both species, for comparing to a basal non-Antarctic notothenioid for the purpose of understanding how gene expression contributed to cold adaptation in Antarctic species.

East Dallmann Bay (ASPA 153) and Western Bransfield Strait around Low Island (ASPA 152) have historically been the locations that yield these target species.

Location

Antarctic Peninsula including ASPA 152-Western Bransfield Strait, and ASPA 153-Eastern Dallmann Bay.

Dates

July 1, 2013 to September 30, 2013.

Nadene G. Kennedy,
Permit Officer, Division of Polar Programs.

[FR Doc. 2013-06938 Filed 3-26-13; 8:45 am]

BILLING CODE 7555-01-P